DEPARTMENT OF ENERGY

Federal Energy Regulatory Commission

Combined Notice of Filings #1

Friday, August 31, 2007.

Take notice that the Commission has received the following Natural Gas Pipeline Rate and Refund Report filings:

Docket Numbers: RP02-361-064.

Applicants: Gulfstream Natural Gas System, L.L.C.

Description: Gulfstream Natural Gas System, LLC submits its Original Sheet 8.02d et al. to its FERC Gas Tariff, Original Volume 1 under RP02-361.

Filed Date: 08/28/2007.

Accession Number: 20070829-0187.

Comment Date: 5 p.m. Eastern Time on Monday, September 10, 2007.

Docket Numbers: RP07-619-000.

Applicants: Kinder Morgan Interstate Gas Transmission.

Description: Kinder Morgan Interstate Gas Transmission, LLC's Thirteenth Revised Sheet 4D to its FERC Gas Tariff, Fourth Revised Volume 1-A under RP07-619.

Filed Date: 08/28/2007.

Accession Number: 20070829-0188.

Comment Date: 5 p.m. Eastern Time on Monday, September 10, 2007.

Docket Numbers: RP07-620-000.

Applicants: TransColorado Gas Transmission Company.

Description: TransColorado Gas Transmission Co. submits Seventh Revised Sheet 20 to its FERC Gas Tariff, First Revised Volume 1 under RP07-620.

Filed Date: 08/28/2007.

Accession Number: 20070829-0185.

Comment Date: 5 p.m. Eastern Time on Monday, September 10, 2007.

Docket Numbers: RP07-621-000.

Applicants: Discovery Gas Transmission LLC.

Description: Discovery Gas Transmission LLC submits Twelfth Revised Sheet 20 to FERC Gas Tariff, Original Volume 1, effective 10/1/07 pursuant to Order 472 under RP07-621.

Filed Date: 08/28/2007.

Accession Number: 20070829-0190.

Comment Date: 5 p.m. Eastern Time on Monday, September 10, 2007.

Docket Numbers: RP07-622-000.

Applicants: Black Marlin Pipeline Company.

Description: Black Marlin Pipeline Company's CD containing Statement of Rates—Sixteenth Revised Sheet 4 to FERC Gas Tariff, Original Volume 1, effective 10/1/07 under RP07-622.

Filed Date: 08/28/2007.

Accession Number: 20070828-4006.

Comment Date: 5 p.m. Eastern Time on Monday, September 10, 2007.

Docket Numbers: RP99-301-162.

Applicants: ANR Pipeline Company.

Description: ANR Pipeline Co submits an amendment to Rate Schedule FTS-1 negotiated rate agreement with Integrys Energy Services, Inc under RP99-301.

Filed Date: 08/28/2007.

Accession Number: 20070829-0186.

Comment Date: 5 p.m. Eastern Time on Monday, September 10, 2007.

Any person desiring to intervene or to protest this filing must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Any person wishing to become a party must file a notice of intervention or motion to intervene, as appropriate. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.
Acting Deputy Secretary.

[FR Doc. E7-17694 Filed 9-6-07; 8:45 am]

BILLING CODE 6717-01-P